DEPARTMENT OF COMMERCE

National Oceanic and Atmospheric Administration

RIN 0648-XA700

Mid-Atlantic Fishery Management Council; Workshop

AGENCY: National Marine Fisheries Service (NMFS), National Oceanic and Atmospheric Administration (NOAA), Commerce.

ACTION: Notice of a workshop.

SUMMARY: The Eight Regional Fishery Management Councils will convene a workshop of representatives of their respective Scientific and Statistical Committees (SSCs) to examine the approaches being taken around the United States by the Council SSCs in addressing Ecosystems Based Fishery Management (EBFM) issues from biological, economic and social perspectives.

DATES: The workshop will be held Tuesday, October 4 through Thursday, October 6, 2011.

ADDRESSES: The workshop will be held at the Kingsmill Conference Center, 1010 Kingsmill Road, Williamsburg, VA 23185; telephone: (800) 832-5665.

Council address: Mid-Atlantic Fishery Management Council, 800 N. State St., Suite 201, Dover, DE 19901; telephone: (302) 674-2331.

FOR FURTHER INFORMATION CONTACT: Richard Seagraves at the Mid-Atlantic Fishery Management Council, telephone: (302) 674-2331.

SUPPLEMENTARY INFORMATION: The Magnuson Stevens Fishery Conservation and Management Act (MSA) requires that each Council maintain and utilize its SSCs to assist in the development, collection, evaluation, and peer review of information relevant to the development and amendment of fishery management plans (FMPs). In addition, the MSA mandates that each SSC shall provide its Council ongoing scientific advice for fishery management decisions, including recommendations for acceptable biological catch (ABC), preventing overfishing, maximum sustainable yield, and achieving rebuilding targets, and reports on stock status and health, bycatch, habitat status, social and economic impacts of management measures, and sustainability of fishing practices.

At its January 2011 meeting, the Council Coordination Committee (a group consisting of the leadership from the eight Regional Fishery Management Councils), recommended that a fourth National SSC Workshop be convened to address ecosystem considerations in the fishery management process as well as to examine how social and economic considerations can be incorporated in both traditional single species and ecosystem based fishery management. Therefore, the purpose of this workshop is to examine the approaches being taken around the United States by the Council SSCs in addressing Ecosystems Based Fishery Management (EBFM) issues from biological, economic and social perspectives.

Proposed agenda items are as follows:

Tuesday, October 4, 2011; 8:30 a.m.—Keynote speaker Dr. Tony Smith CSIRO Australia; 9:30 a.m.—Status report from each SSC on approaches being taken to implement ABCs and providing advice to the Councils on implementing ecosystem based fishery management approaches and the role of social science and economics in the SSC Process; 1:15 p.m.—Plenary Session 1: Broader Context and Tradeoffs/Integrated Ecosystem Assessments; 5 p.m.—Adjourn Day 1.

Wednesday, October 5, 2011 the Workshop will split into two break-out sessions; Ecosystems Breakout: 8:30 a.m.—OFL-ACL continuum; 11 a.m.—Forage species discussion; 2 p.m.—Ecosystems goals and objectives; Social and Economics Breakout: 8:30 a.m.—Role of Social Science in SSC deliberations; 11 a.m.—Role of SSC in providing scientific advice on catch shares; 1 p.m.—Procedural/data issue; 3 p.m.—Recommendations. At 4:30 p.m. the workshop will reconvene in Plenary to discuss results of Breakout Sessions; 5 p.m.—Adjourn Day 2.

Thursday, October 6, 2011; 8:30 a.m.—Continue Plenary discussion of Day 2 breakout sessions; 1 p.m. Develop specific recommendations to Council Coordination Committee; 3:30 p.m. Adjourn.

The agenda items are subject to change, the latest version will be posted at http://www.fisherycouncils.org.

Although non-emergency issues not contained in this agenda may come before these groups for discussion, in accordance with the Magnuson-Stevens Fishery Conservation and Management Act (Magnuson-Stevens Act), those issues may not be the subject of formal action during the workshop. Actions will be restricted to those issues specifically identified in this notice and any issues arising after publication of this notice that require emergency action under Section 305(c) of the Magnuson-Stevens Act, provided the public has been notified of the Council's intent to take final action to address the emergency.

Special Accommodations

This workshop is physically accessible to people with disabilities. Requests for sign language interpretation or other auxiliary aids should be directed to M. Jan Saunders at (302) 526-5251 at least 5 days prior to the workshop dates.

Dated: September 9, 2011.
Tracey L. Thompson,
Acting Director, Office of Sustainable Fisheries, National Marine Fisheries Service.

[FR Doc. 2011-23461 Filed 9-13-11; 8:45 am]

BILLING CODE 3510-22-P